DEPARTMENT OF DEFENSE

Department of the Navy

Notice of Intent To Prepare an Environmental Impact Statement (EIS) for Naval Surface Warfare Center Panama City (NSWCPC) Mission Activities and Announcement of Public Scoping Meetings

AGENCY: Department of the Navy, DOD.

ACTION: Notice.

SUMMARY: Pursuant to Section (102)(2)(c) of the National Environmental Policy Act (NEPA) of 1969, as implemented by the Council on Environmental Quality Regulations (40 CFR parts 1500-1508), the Department of the Navy (Navy) announces its intent to prepare an Environmental Impact Statement (EIS) to evaluate the potential environmental consequences associated with new and increased Naval Surface Warfare Center Panama City (NSWCPC) mission activities in three military operating areas in the northern Gulf of Mexico and in St. Andrews Bay. Existing and evolving activities include research, development, testing and evaluation, and in-service engineering for mine warfare, special warfare, amphibious warfare, diving, and other naval missions that take place primarily in the coastal region. These activities generally include air, surface, and subsurface operations that require the use of sonar, lasers, live ordnance, and electromagnetic fields.

DATES: Public scoping meetings will be held in Panama City, FL; Port St. Joe, FL; and Pensacola, FL, to receive oral and written comments on environmental concerns that should be addressed in the EIS. The public meeting dates are as follows:

1. Tuesday, September 14, 2004, 6 p.m. to 9 p.m., Panama City, FL.

2. Wednesday, September 15, 2004, from 6 p.m. to 9 p.m., Port St. Joe, FL.

3. Thursday, September 16, 2004, 6 p.m. to 9 p.m., Pensacola, FL.

ADDRESSES: The public meeting locations are as follows:

1. Panama City, FL—Florida State University, Panama City Campus, 4750 Collegiate Drive, Panama City, FL 32405.

2. Port St. Joe, FL—Port St. Joe High School, 100 Shark Drive, Port St. Joe, FL 32456.

3. Pensacola, FL—Pensacola Junior College, Warrington Campus, 5555 West Highway 98, Pensacola, FL 32507.

FOR FURTHER INFORMATION CONTACT: Naval Surface Warfare Center Panama City, Attn: Mrs. Carmen Ferrer, 110 Vernon Avenue, Panama City, FL 32407; telephone (850) 234-4146; E-Mail: carmen.ferrer@navy.mil.

SUPPLEMENTARY INFORMATION: The NSWCPC currently utilizes the adjacent coastal and marine environments to provide naval research, development, test and evaluation (RDT&E) and in-service support for acquisition of various systems. The northern Gulf of Mexico military operating areas currently utilized encompasses portions of the Eglin Gulf Test and Training Range (EGTTR). The adjacent littoral and coastal environments are also currently used to test and evaluate systems. These sites include St. Andrews Bay, East Bay, West Bay and beaches along the Gulf of Mexico up to the mean high water line. The environmental consequences associated with such support have historically been addressed on a test-by-test or program-by-program basis. This method frequently creates time constraints and schedule limitations, including delays.

The proposed action is to improve NSWCPC's capabilities to conduct new and increased mission operations for DOD and other users within three military operating areas in the northern Gulf of Mexico, and in the St. Andrews Bay area.

The proposed action would enable the Navy to successfully meet current and future national and global defense challenges by developing a robust capability to meet littoral and expeditionary warfare requirements and by providing RDT&E, and in-service engineering for mine warfare, special warfare, amphibious warfare, diving, and other naval missions that take place primarily in the coastal region. This allows the Navy to meet its statutory mission to deploy world wide naval forces equipped and trained to meet existing and emergent threats, and to enhance its ability to operate jointly with other components of the armed forces.

Alternatives to be considered in the EIS include two action alternatives that address variations in the level and tempo of mission operations plus a no action alternative. Additionally, the EIS may also consider other alternatives defined during the public scoping process, if the options meet established operational criteria.

Alternative 1 involves an increase in NSWCPC capabilities over baseline mission activities, using foreseeable (e.g. over a five year period) test and training requirements to project needed capabilities. Alternative 1 would enhance NSWCPC's ability to meet future needs by incorporating new test capabilities and increases in tempo and intensity of RDT&E activities.

Alternative 2 also involves an increase in NSWCPC capabilities over baseline mission activities. Alternative 2 also uses foreseeable test and training requirements to project needed capabilities. The principal difference between Alternatives 1 and 2 is that Alternative 2 proposes an increase in testing and training tempo 15% greater than that proposed in Alternative 1.

The no action alternative addresses historic and current mission activities (e.g. baseline mission activities or the status quo) at the NSWCPC operating areas.

The EIS will evaluate the potential environmental effects associated with the identified alternatives. The EIS will focus on the following areas: air quality; water resources; coastal zone management; noise; wildlife, including threatened and endangered species, marine mammals, and migratory birds; fisheries including an analysis of essential fish habitat, coastal/marine/benthic communities, and special biological resource areas; socioeconomic resources; and cultural resources. The analysis will include an evaluation of the direct, indirect, and cumulative impacts. Environmental effects that occur outside of U.S. territorial waters will be evaluated under Executive Order 12114. No decision will be made to implement any alternative until the NEPA process is completed.

The Navy is initiating the scoping process to identify community concerns and local issues that should be addressed in the EIS. Federal, state, and local agencies and interested persons are encouraged to provide oral and/or written comments to NSWCPC to identify specific issues or topics of environmental concern. The Navy will consider these comments in determining the scope of the EIS.

Written comments on the scope of the EIS must be postmarked by October 16, 2004, and should be mailed to: Commanding Officer, Naval Surface Warfare Center Panama City, Attn: Environmental Team Lead, Mrs. Carmen Ferrer, 110 Vernon Avenue, Panama City, FL 32407-7001; telephone (850) 234-4146; E-Mail: carmen.ferrer@navy.mil.

Dated: August 16, 2004.
S.K. Melancon,
Paralegal Specialist, Office of the Judge Advocate General, Alternate Federal Register Liaison Officer.

[FR Doc. 04-19045 Filed 8-18-04; 8:45 am]

BILLING CODE 3810-FF-P